DEPARTMENT OF DEFENSE

Department of the Air Force

Exchange of Air Force Real Property for Non-Air Force Real Property

AGENCY: Department of the Air Force, Department of Defense

ACTION: Notice of intent.

SUMMARY: The Department of the Air Force is publishing this Notice to identify Federal real property that it intends to exchange for property that is needed by the Air Force to construct and continue the existing perimeter road that supports the F-35 mission at Nellis AFB, NV.

DATES: Written objections must be filed no later than April 28, 2021.

ADDRESSES: Submit written objections to: Department of the Air Force, AFCEC/CITE, 2261 Hughes Ave., Ste 155, JBSA Lackland, TX 78236-9853; Email: AFCEC.CIT.WORKFLOW@us.af.mil. Include Docket No. [insert docket number] in the subject line of the message.

FOR FURTHER INFORMATION CONTACT: Air Force Civil Engineer Center (AFCEC/CITE), 2261 Hughes Avenue, Suite 155, Joint Base San Antonio (JBSA) Lackland, TX 78236-9853; telephone (210) 395-9478.

SUPPLEMENTARY INFORMATION: In 2018 when the construction for the F-35 Live Ordnance Loading Area (LOLA) project began, it was discovered the new perimeter road associated with the Air Force's project was going to transect Clark County property. On the other hand, Clark County Commissioner Kirkpatrick had expressed a desire to expand Cary Avenue as a means of alleviating traffic on other major thoroughfares by transecting Nellis AFB property on the south side of the base. Consequently, the Department of the Air Force, the Clark County Public Works Department, and Commissioner Kirkpatrick have agreed to exchange land of equal value vice granting one or more easements. The Government is entering into this Agreement pursuant to the authority contained in Title 10, United States Code, Section 2869, Exchange of Property at Military Installations. Clark County, NV, in conjunction with Clark County Regional Flood Control District, is requesting ~12 acres of Nellis AFB property for the Carey Road Alignment Project, which will widen the road to a four-lane road. In exchange, Nellis AFB is requesting ~14 acres of land owned by Clark County Regional Flood District, for the purpose of constructing and continuing the existing perimeter road that supports the F-35 mission.

On February 22, 2021, the Department of the Air Force notified the appropriate Congressional committees of the terms and conditions of the proposed exchange pursuant to Title 10, United States Code, Section 2869(d)(2).

Adriane Paris,
Acting Air Force Federal Register Liaison Officer.

[FR Doc. 2021-07510 Filed 4-12-21; 8:45 am]

BILLING CODE 5001-10-P